DEPARTMENT OF THE INTERIOR

Bureau of Land Management

[LLNVS01000 L54400000 EU0000 LVCLF2004410; N-93312; 241A; 14-08807; MO#4500154456; TAS: 20X]

Notice of Realty Action: Direct Sale of Public Land to the City of Las Vegas, Nevada

AGENCY: Bureau of Land Management, Interior.

ACTION: Notice of realty action.

SUMMARY: The Bureau of Land Management (BLM) proposes a non-competitive (direct) sale of 939.52 acres of public land to the City of Las Vegas (City), Nevada, at no less than fair market value (FMV), pursuant to the Southern Nevada Public Land Management Act of 1998, as amended (SNPLMA) and applicable provisions of the Federal Land Policy and Management Act of 1976, as amended (FLPMA) and the BLM land sale regulations. The appraised FMV for the sale parcel is $94,000,000.00. The City nominated this parcel for disposal to promote community expansion and economic development within the City.

DATES: Submit written comments regarding this direct sale until February 21, 2023.

ADDRESSES: Mail written comments to the BLM Las Vegas Field Office, Assistant Field Manager, Division of Lands, 4701 North Torrey Pines Drive, Las Vegas, Nevada 89130.

FOR FURTHER INFORMATION CONTACT: Jayangi Ayesha Gamage, Realty Specialist, BLM Las Vegas Field Office, telephone (702) 515-5189, email at jgamage@blm.gov; or you may contact the BLM Las Vegas Field Office at the earlier-listed address. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The land abuts the Las Vegas Paiute Tribe's Snow Mountain Reservation on the west and the Tule Springs Fossil Beds National Monument on the north and east. The parcel is located near the corner of Moccasin Road and Sky Pointe Drive.

The public lands are legally described as:

Mount Diablo Meridian, Nevada

T. 18 S., R. 60 E.,

Sec. 30, lots 17, 19 and lots 21 thru 25;

Sec. 31;

Sec. 32, lots 7, 8, 9, 11, lots 21 thru 25, lots 28, 31, 36, 38, 39, and 40.

The areas described contains approximately 939.52 acres, according to the official plat of the survey of the said land on file with the BLM.

The BLM will also publish this Notice of Realty Action once a week for three consecutive weeks in the Las Vegas Review-Journal newspaper.

This direct sale is in conformance with the BLM Las Vegas Resource Management Plan Record of Decision LD-1, approved on October 5, 1998. The Las Vegas Valley Disposal Boundary Environmental Impact Statement (EIS) and Record of Decision issued on December 23, 2004, and Las Vegas In-Valley Area Multi-Action Analysis Environmental Assessment (EA) (DOI-BLM-NV-S010-2016-0054-EA) analyzed the sale of this parcel. A parcel-specific EA (DOI-BLM-NV-S010-2021-0059-EA), which tiers to the EIS and incorporates by reference the analysis from the EA, was prepared in connection with this Notice of Realty Action.

The City's planned development for the 939.52-acre parcel is designed to strengthen community development opportunities in the northwest part of the Las Vegas Valley, integrating the interests of the neighboring communities and primary stakeholders, including the Las Vegas Paiute Tribe whose lands compose the boundaries of the direct sale parcel. The planned development for the site incorporates residential and commercial uses while providing employment and services for the surrounding population and serves as a gateway to recreational opportunities in the area.

The land meets the criteria for direct sale under FLPMA section 203(f) and 43 CFR 2711.3-3(a), which states, “Direct sales (without competition) may be utilized, when in the opinion of the authorized officer, a competitive sale is not appropriate, and the public interest would best be served by a direct sale.” The direct sale of land to the City will allow the City to retain significant control over the development of the land. The City Council selected Olympia Companies, LLC as the Master Developer for the land on August 21, 2019, during a City Council Meeting. Using the direct sale approach will allow the City to negotiate the Development Agreement with the Master Developer before the land is transferred out of Federal ownership to the City, and subsequently to the Master Developer. A direct sale will also allow the City to meet the terms of the Intergovernmental Agreement between the City and the Las Vegas Paiute Tribe fully executed on April 7, 2021. Accordingly, the parcel will be offered through direct sale procedures pursuant to 43 CFR 2711.3-3.

According to SNPLMA, as amended, Public Law 105-263 section 4(c), lands identified within the Las Vegas Valley Disposal Boundary are withdrawn from location and entry under the mining laws and from operation under the mineral leasing and geothermal leasing laws until such time as the Secretary of the Interior (Secretary) terminates the withdrawal or the lands are patented.

Upon publication of this notice in the Federal Register, the described land will be segregated from all forms of appropriation under the public land laws, except for the sale provisions of FLPMA. Upon publication of this notice and until completion of this sale, the BLM will no longer accept land use applications affecting the parcel identified for sale. The parcel may be subject to land use applications received prior to publication of this notice if processing the application would have no adverse effect on the marketability of title, or the FMV of the parcel. The segregative effect of this notice terminates upon issuance of a patent or other document of conveyance to such lands, or publication in the Federal Register of a termination of the segregation, whichever occurs first. The total segregation period may not exceed two years unless extended by the BLM State Director, Nevada, in accordance with 43 CFR 2711.1-2(d), prior to the termination date.

The public land would not be offered for sale to the City prior to 60 days from the date of publication of this notice in the Federal Register.

Terms and Conditions: FLPMA section 209, 43 U.S.C. 1719(a), states that “all conveyances of title issued by the Secretary . . . shall reserve to the United States all minerals in the lands”. Accordingly, all minerals for the sale parcel will be reserved to the United States. The patent, when issued, will contain a mineral reservation to the United States for all minerals.

The parcel is subject to limitations prescribed by law and regulation, and certain encumbrances in favor of third parties. Prior to patent issuance, a holder of any right-of-way (ROW) within the sale parcel will have the opportunity to amend their ROW for conversion to a new term, including in perpetuity if applicable, or to an easement. The BLM will notify valid existing ROW holders of record of their ability to convert their compliant ROWs to perpetual ROWs or easements. In accordance with Federal regulations at 43 CFR 2807.15, once notified, each valid holder may apply for the conversion of their current authorization.

The patent, when issued to the City, will be subject to the following reservations or terms and conditions:

1. All mineral deposits in the lands so patented, and to it, or persons authorized by it, the right to prospect for, mine, and remove such deposits from the same under applicable law and regulations to be established by the Secretary are reserved to the United States, together with all necessary access and exit rights;

2. A right-of-way is reserved for ditches and canals constructed by authority of the United States under the Act of August 30, 1890;

3. The parcel is subject to valid existing rights;

4. The parcel is subject to reservations for roads, public utilities, and flood control purposes, both existing and proposed, in accordance with the local governing entities' transportation plans;

5. An appropriate indemnification clause protecting the United States from claims arising out of the patentee's use, occupancy, or occupations on the patented lands; and

6. Any other reservation or term and condition that the Authorized Officer deems appropriate.

To the extent required by law, the parcel is subject to the requirements of Section 120(h) of the Comprehensive Environmental Response, Compensation and Liability Act, 42 U.S.C. 9620(h) (CERCLA), as amended. Accordingly, notice is hereby given that the land has been examined and no evidence was found to indicate that any hazardous substances have been stored for one year or more, nor that any hazardous substances have been disposed of or released on the subject properties.

The City will have until 4:30 p.m., Pacific Time (PT), 30 days from the date of receiving the sale offer to accept the offer and submit a deposit of 20 percent of the purchase price along with a completed Certificate of Eligibility form. The City must remit the remainder of the purchase price within 180 days from the date of receiving the sale offer to the BLM Las Vegas Field Office (LVFO). Payment must be submitted in the form of a certified check, postal money order, bank draft, cashier's check, or made available by electronic fund transfer made payable in U.S. dollars to the “Department of the Interior—Bureau of Land Management” to the BLM LVFO. The BLM will not accept personal or company checks. Failure to meet conditions established for this sale will void the sale and any funds received will be forfeited.

Arrangements for electronic fund transfer to the BLM for payment of the balance due must be made a minimum of two weeks prior to the payment date.

In accordance with 43 CFR 2711.3-1(f), the BLM may accept or reject any or all offers to purchase or withdraw any parcel of land or interest therein from sale within 30 days, if the BLM authorized officer determines consummation of the sale would be inconsistent with any law, or for other reasons as may be provided by applicable law or regulations. No contractual or other rights against the United States may accrue until the BLM officially accepts the offer to purchase and the full price is paid.

To determine the FMV through appraisal, certain extraordinary assumptions and hypothetical conditions may have been made concerning the attributes and limitations of the lands and potential effects of local regulations and policies on potential future land uses. Through publication of this notice, the BLM advises that these assumptions may not be endorsed or approved by units of local government.

No warranty of any kind, express or implied, is given by the United States as to the title, whether or to what extent the land may be developed, its physical condition, future uses, or any other circumstance or condition. The conveyance of a parcel will not be on a contingency basis.

It is the City's responsibility to be aware of all applicable Federal, State, and local Government laws, regulations, and policies that may affect the subject land, including any required dedication of lands for public uses. It is also the City's responsibility to be aware of existing or prospective uses of nearby properties. When conveyed out of Federal ownership, the land will be subject to any applicable laws, regulations, and policies of the applicable local government for proposed future uses. It is the responsibility of the City to be aware through due diligence of those laws, regulations, and policies, and to seek any required local approvals for future uses. The City should make itself aware of any Federal or State law or regulation that may impact the future use of the property. Any land lacking access from a public road or highway will be conveyed as such and acquiring future access will be the responsibility of the City.

Information concerning the sale, encumbrances of record, appraisal, reservations, procedures, and conditions, CERCLA, and other environmental documents that may appear in the BLM public files for the sale parcel, is available for review by appointment only, during business hours, from 8 a.m. to 4:30 p.m. PT, Monday through Friday, at the BLM LVFO, except during Federal holidays.

Public comments regarding the sale may be submitted in writing to the address in the ADDRESSES section. Before including your address, phone number, email address, or other personal identifiable information (PII) in your comment, you should be aware that your entire comment—including your PII—may be made publicly available at any time. While you can ask us in your comment to withhold your PII from public review, we cannot guarantee that we will be able to do so.

Any comments regarding the proposed sale will be reviewed by the BLM Nevada State Director, who may sustain, vacate, or modify this realty action in response to such comments. In the absence of any comments, this realty action will become the final determination of the Department of the Interior.

Authority: 43 CFR 2711.1-2.

Stephen Leslie,
Assistant Field Manager, Las Vegas Field Office.

[FR Doc. 2022-28585 Filed 1-3-23; 8:45 am]

BILLING CODE 4310-HC-P